COMMITTEE FOR THE IMPLEMENTATION OF TEXTILE AGREEMENTS

Request for Public Comment on Commercial Availability Request under the United States-Singapore Free Trade Agreement (USSFTA)

May 4, 2005.

AGENCY: The Committee for the Implementation of Textile Agreements (CITA).

ACTION: Request for Public Comments concerning a request for modifications of the USSFTA rules of origin for apparel items made from certain yarns and fabrics.

SUMMARY: The Government of the United States has received a request dated April 8, 2005, from the Government of Singapore for consultations under Article 3.18.4(a)(i) of the USSFTA. Singapore is seeking agreement to revise the rules of origin for certain apparel goods to address availability of supply of certain yarns and fabrics in the territories of the Parties. The request covers products that have been the subject of prior determinations made by CITA between April 6, 2004 and January 18, 2005 pursuant to the Caribbean Basin Trade Partnership Act (CBTPA), and the Andean Trade Promotion and Drug Eradication Act (ATPDEA).

Section 202(o)(2) of the United States - Singapore Free Trade Agreement Implementation Act authorizes the President to proclaim a modification to the USSFTA rules of origin for textile and apparel products that are necessary to implement an agreement with Singapore pursuant to Article 3.18.4 of the USSFTA after complying with the consultation and layover requirements of that Act. Prior to entering negotiations with Singapore regarding its request, it is appropriate to seek public comment regarding the request. CITA hereby solicits public comments on this request, in particular with regard to whether the yarns and fabrics described below can be supplied by the domestic industry in commercial quantities in a timely manner. Comments must be submitted by June 16, 2004 to the Chairman, Committee for the Implementation of Textile Agreements, Room 3001, United States Department of Commerce, Washington, D.C. 20230.

FOR FURTHER INFORMATION CONTACT: Martin Walsh, International Trade Specialist, Office of Textiles and Apparel, U.S. Department of Commerce, (202) 482-3400.

SUPPLEMENTARY INFORMATION:

BACKGROUND:

Under the United States-Singapore Free Trade Agreement (USSFTA), USSFTA countries are required to eliminate customs duties on textile and apparel goods that qualify as originating goods under the USSFTA rules of origin, which are set out in Annex 3A to the USSFTA. The USSFTA provides that the rules of origin for textile and apparel products may be amended through a subsequent agreement by the USSFTA countries. In consultations regarding such a change, the USSFTA countries are to consider issues of availability of supply of fibers, yarns, or fabrics in the free trade area and whether domestic producers are capable of supplying commercial quantities of the good in a timely manner.

The government of the United States received a request from the government of Singapore requesting consultations on the rules of origin for certain products that have been the subject of prior determinations made by CITA under AGOA, CBTPA and ATPDEA, and requesting that the government of the United States consider whether the USSFTA rules of origin for these products should be modified to allow the use of certain yarns and fabrics that do not originate in the territory of the United States or Singapore. The products covered by this request are:

(1) Certain viscose rayon filament yarns, of the specifications detailed below, classified in subheading 5403.41.0000 of the Harmonized Tariff Schedule of the United States (HTSUS), for use in apparel articles;

Specifications:

1. Viscose Filament Yarn
DTEX 166/40 Bright Centrifugal
Tenacity, cN/tex, min. - 142.0
Elongation at rupture, % - 18.0 - 24.0
Elongation at rupture variation factory, % max. - 8.1
Twist direction - S
2. Viscose Filament Yarn
DTEX 330/60 Bright Centrifugal
Tenacity, cN/tex, min. - 142.0
Elongation at rupture, % - 18.0 - 24.0
Elongation at rupture variation factor, % max. - 8.1
Twist direction - S

(2) Certain fabrics, classified in subheading 5210.11 of the Harmonized Tariff Schedule of the United States (HTSUS), not of square construction, containing more than 70 warp ends and filling picks per square centimeter, of average yarn number exceeding 70 metric, used in the production of women's and girls' blouses;

(3) Certain combed compact yarns, of wool or fine animal hair, classified in subheadings 5107.10, 5107.20, or 5108.20 of the Harmonized Tariff Schedule of the United States (HTSUS), for use in apparel articles;

(4) 100 percent cotton yarn-dyed woven flannel fabrics, made from 14 through 41 NM single ring-spun yarns, classified in 5208.43.00 of the Harmonized Tariff Schedule of the United States (HTSUS), of construction 2 X 1 twill weave, weighing 200 grams per square meter or less, for use in apparel articles excluding gloves;

(5) Certain woven, 100 percent cotton, flannel fabrics, of the specifications detailed below, classified in the indicated subheadings of the Harmonized Tariff Schedule of the United States (HTSUS), for use in shirts, trousers, nightwear, robes, dressing gowns, and woven underwear:

Specifications:

Fabric 1 |
HTS Subheading: | 5208.42.30.00
Fiber Content: | 100% Cotton
Weight: | 152.6 g/m2
Width: | 150 centimeters cuttable
Thread Count: | 24.4 warp ends per centimeter; 15.7 filling picks per centimeter; total: 40.1 threads per square centimeter
Yarn Number: | Warp: 40.6 metric, ring spun; filling: 20.3 metric, open end spun; overall average yarn number: 39.4 metric
Finish: | of yarns of different colors; napped on both sides, sanforized
Fabric 2 |
HTS Subheading: | 5209.41.60.40
Fiber Content: | 100% Cotton
Weight: | 251 g/m2
Width: | 160 centimeters cuttable
Thread Count: | 22.8 warp ends per centimeter; 17.3 filling picks per centimeter; total: 40.1 threads per square centimeter
Yarn Number: | Warp: 40.6 metric, ring spun; filling: 8.46 metric, open end spun; overall average yarn number: 24.1 metric
Finish: | Of yarns of different colors; napped on both sides, sanforized
Fabric 3 |
HTS Subheading: | 5209.41.60.40
Fiber Content: | 100% Cotton
Weight: | 251 g/m2
Width: | 160 centimeters cuttable
Thread Count: | 20.1 warp ends per centimeter; 16.5 filling picks per centimeter; total: 36.6 threads per square centimeter
Yarn Number: | Warp: 27.07 metric, ring spun; filling: 10.16 metric, open end spun; overall average yarn number: 23.3 metric
Finish: | Of yarns of different colors; napped on both sides, sanforized

(6) Certain woven, 100 percent cotton, flannel fabrics, of the specifications detailed below, classified in the indicated subheadings of the Harmonized Tariff Schedule of the United States (HTSUS), for use in shirts, trousers, nightwear, robes, dressing gowns, and woven underwear:

Specifications:

Fabric 1: |
HTS Subheading: | 5208.32.30.40
Fiber Content: | 100% Cotton
Weight: | 152.6 g/m2
Width: | 150 centimeters cuttable
Thread Count: | 24.4 warp ends per centimeter; 15.7 filling picks per centimeter; total: 40.1 threads per square centimeter
Yarn Number: | Warp: 40.6 metric, ring spun; filling: 20.3 metric, open end spun; overall average yarn number: 39.4 metric
Finish: | (Piece) dyed; napped on both sides, sanforized | Fabric 2: |
HTS Subheading: | 5209.31.60.50
Fiber Content: | 100% Cotton
Weight: | 251 g/m2
Width: | 160 centimeters cuttable
Thread Count: | 22.8 warp ends per centimeter; 15 filling picks per centimeter; total: 37.8 threads per square centimeter
Yarn Number: | Warp: 40.6 metric, ring spun; filling: 8.46 metric, open end spun; overall average yarn number: 24.1 metric
Finish: | (Piece) dyed; napped on both sides, sanforized
Fabric 3: |
HTS Subheading: | 5209.31.60.50
Fiber Content: | 100% Cotton
Weight: | 203 g/m2
Width: | 150 centimeters cuttable
Thread Count: | 20.5 warp ends per centimeter; 17.3 filling picks per centimeter; total: 37.8 threads per square centimeter
Yarn Number: | Warp: 40.6 metric, ring spun; filling: 13.5 metric, open end spun; overall average yarn number: 27.9 metric
Finish: | (Piece) dyed; napped on both sides, sanforized
Fabric 4: |
HTS Subheading: | 5209.31.60.50
Fiber Content: | 100% Cotton
Weight: | 291.5 g/m2
Width: | 160 centimeters cuttable
Thread Count: | 23.2 warp ends per centimeter; 15 filling picks per centimeter; total: 38.2 threads per square centimeter
Yarn Number: | Warp: 27.07 metric, ring spun; filling: 8.46 metric, open end spun; overall average yarn number: 20.1 metric
Finish: | (Piece) dyed; napped on both sides, sanforized
Fabric 5: |
HTS Subheading: | 5209.31.60.50
Fiber Content: | 100% Cotton
Weight: | 291.5 g/m2
Width: | 160 centimeters cuttable
Thread Count: | 26.8 warp ends per centimeter; 16.5 filling picks per centimeter; total: 43.3 threads per square centimeter
Yarn Number: | Warp: 25.46 metric, ring spun; filling: 10.16 metric, open end spun; overall average yarn number: 23.8 metric
Finish: | (Piece) dyed; napped on both sides, sanforized
Fabric 6: |
HTS Subheading: | 5209.31.60.50
Fiber Content: | 100% Cotton
Weight: | 254 g/m2
Width: | 160 centimeters cuttable
Thread Count: | 20 warp ends per centimeter; 14.5 filling picks per centimeter; total: 34.5 threads per square centimeter
Yarn Number: | Warp: 28.8 metric, ring spun; filling: 8.46 metric, open end spun; overall average yarn number: 20.1 metric
Finish: | (Piece) dyed; napped on both sides, sanforized
Fabric 7: |
HTS Subheading: | 5209.41.60.40
Fiber Content: | 100% Cotton
Weight: | 251 g/m2
Width: | 160 centimeters cuttable
Thread Count: | 22.8 warp ends per centimeter; 15 filling picks per centimeter; total: 37.8 threads per square centimeter
Yarn Number: | Warp: 40.6 metric, ring spun; filling: 8.46 metric, open end spun; overall average yarn number: 24.1 metric
Finish: | gingham check or plaid of yarns of different colors; napped on both sides, sanforized
Fabric 8: | Style 4245
HTS Subheading: | 5209.41.60.40
Fiber Content: | 100% Cotton
Weight: | 251 g/m2
Width: | 160 centimeters cuttable
Thread Count: | 19.7 warp ends per centimeter; 11.8 filling picks per centimeter; total: 31.5 threads per square centimeter
Yarn Number: | Warp: 20.3 metric, ring spun; filling: 8.46 metric, open end spun; overall average yarn number: 20.1 metric
Finish: | Plaid of yarns of different colors; napped on both sides, sanforized

(7) Certain woven, 100 percent cotton, napped fabrics, of the specifications detailed below, classified in subheading 5209.31.60.50 of the Harmonized Tariff Schedule of the United States (HTSUS), for use in shirts, trousers, nightwear, robes, dressing gowns, and woven underwear:

Specifications:

Fabric 1 |
HTS Subheading: | 5209.31.60.50
Fiber Content: | 100% Cotton
Weight: | 291.5 g/m2
Width: | 160 centimeters cuttable
Thread Count: | 24.41 warp ends per centimeter; 16.53 filling picks per centimeter; total: 40.94 threads per square centimeter
Yarn Number: | Warp: 25.4 metric, ring spun; filling: 10.16 metric, open end spun; overall average yarn number: 14.04 metric
Finish: | (Piece) dyed; napped on both sides, sanforized
Fabric 2 |
HTS Subheading: | 5209.31.60.50
Fiber Content: | 100% Cotton
Weight: | 305 g/m2
Width: | 160 centimeters cuttable
Thread Count: | 24.41 warp ends per centimeter; 18.11 filling picks per centimeter; total: 42.52 threads per square centimeter
Yarn Number: | Warp: 25.4 metric, ring spun; filling: 10.16 metric, open end spun; overall average yarn number: 13.95 metric
Finish: | (Piece) dyed; napped on both sides, sanforized

(8) Certain woven, 100 percent cotton, double-napped flannel fabric, of specifications detailed below, classified in HTSUS subheading 5209.31.6050, for use in shirts, trousers, nightwear, robes, dressing gowns, and woven underwear:

Specifications:

HTS Subheading: | 5209.31.6050
Fiber Content: | 100% Cotton
Weight: | 203 g/m2
Width: | 150 centimeters cuttable
Thread Count: | 21 warp ends per centimeter; 18 filling picks per centimeter; total: 39 threads per square centimeter
Yarn Number: | Warp: 40.6 metric, ring spun; filling: 13.54 metric, open end spun; overall average yarn number: 19.2 metric
Finish: | (Piece) dyed; napped on both sides, sanforized

CITA is soliciting public comments regarding this request, particularly with respect to whether the yarns and fabrics listed above can be supplied by the domestic industry in commercial quantities in a timely manner. Comments must be received no later than June 16, 2004. Interested persons are invited to submit six copies of such comments or information to the Chairman, Committee for the Implementation of Textile Agreements, room 3100, U.S. Department of Commerce, 14th and Constitution Avenue, N.W., Washington, DC 20230.

If a comment alleges that any of the yarns or fabrics listed above can be supplied by the domestic industry in commercial quantities in a timely manner, CITA will closely review any supporting documentation, such as a signed statement by a manufacturer stating that it produces a yarn or fabric that is in the subject of the request, including the quantities that can be supplied and the time necessary to fill an order, as well as any relevant information regarding past production.

CITA will protect any business confidential information that is marked “business confidential” from disclosure to the full extent permitted by law. CITA will make available to the public non-confidential versions of the request and non-confidential versions of any public comments received with respect to a request in room 3100 in the Herbert Hoover Building, 14th and Constitution Avenue, N.W., Washington, DC 20230. Persons submitting comments on a request are encouraged to include a non-confidential version and a non-confidential summary.

D. Michael Hutchinson,
Acting Chairman, Committee for the Implementation of Textile Agreements.

[FR Doc. 05-9325 Filed 5-9-05; 8:45 am]

BILLING CODE 3510-DS